DEPARTMENT OF TRANSPORTATION

Federal Aviation Administration

Notice of Release From Federal Surplus Property and Grant Assurance Obligations at Daniel K. Inouye International Airport (HNL), Honolulu, Hawaii

AGENCY: Federal Aviation Administration, DOT.

ACTION: Notice of request to release airport land.

SUMMARY: The Federal Aviation Administration (FAA) proposes to rule and invites public comment on the application for a release of approximately 9.34 acres of airport property at the Daniel K. Inouye International Airport (HNL), Honolulu, Hawaii from all federal obligations contained in the Quitclaim Deed, dated April 18, 2000, and Grant Assurances because the portion of land is not needed for airport purposes. The land requested to be released is located approximately one mile east of the airport completely separated by a lagoon and the Sand Island Access Road, a major public roadway. The release will allow the State of Hawaii (State) to transfer the property from the State Airports Division at fair market value to the State Highways and Harbors Divisions, thereby benefiting the Airport and serving the interest of civil aviation. The proposed use of the land after the transfer of jurisdiction will be compatible with the airport and will not interfere with the airport or its operation.

DATED: Comments must be received on or before September 7, 2018.

FOR FURTHER INFORMATION CONTACT: Comments on the request may be mailed or delivered to the FAA at the following address: Mr. Gordon Wong, Manager, Federal Aviation Administration, Honolulu Airports District Office, Federal Register Comment, 300 Ala Moana Boulevard, Honolulu, HI 96850-0001. In addition, one copy of the comment submitted to the FAA must be mailed or delivered to Jade T. Butay, Director of Transportation, State of Hawaii, Department of Transportation, 869 Punchbowl Street, Honolulu, HI 96813-5097.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The State of Hawaii requested a release from public airport purposes and grant assurance obligations for approximately 9.34 acres of airport land from the 11.34-acre site to allow for its sale and a land-use change to use for other than aeronautical purposes on the remaining approximately 2.0 acres of airport property. In 1989, Congress authorized conveying the 11.34 acres land to the State of Hawaii under Public Law 101-189, Section 2814, Land Conveyances, Kapalama Military Reservation, Hawaii. Under Governor's Executive Order No. 4454 dated April 25, 2014, the 11.34-acre parcel was set aside to the State of Hawaii, Department of Transportation for public airport purposes. The land is located approximately one mile east of the airfield, outside of the airport, separated by the Keehi Lagoon, and the Sand Island Access Road. The land has been utilized for industrial warehouse operations during most of the past ten years and is currently vacant. The land no longer serves an airport purpose.

The State of Hawaii will transfer the Airports Division's jurisdiction of approximately 8.37 acres parcel to the State Harbors Division and approximately 0.97 acres of property to the State Highways Division totaling approximately 9.34 acres for fair market value compensation. The Airports Division will retain and lease the remaining 2.0 acres of the land for fair market rental value for non-aeronautical revenue producing purposes.

The sales proceeds and rental income will be devoted to airport operations and capital projects. The reuse of the property will not interfere with the airport or its operation; thereby, serve the interests of civil aviation.

Issued in Honolulu, Hawaii, on July 30, 2018.
Gordon Wong,
Manager, Honolulu Airports District Office, Western-Pacific Region.

[FR Doc. 2018-16971 Filed 8-7-18; 8:45 am]

BILLING CODE 4910-13-P